DEPARTMENT OF AGRICULTURE

Forest Service

Uinta-Wasatch-Cache National Forest, Evanston-Mountain View Ranger District; Utah; West Fork Smiths Fork Colorado River Cutthroat Trout Enhancement

AGENCY: Forest Service, USDA.

ACTION: Withdrawal of notice of intent to prepare an environmental impact statement.

SUMMARY: The Evanston-Mountain View Ranger District of the Uinta-Wasatch-Cache National Forest (Forest) is withdrawing the Notice of Intent (NOI) to prepare an Environmental Impact Statement (EIS) for the West Fork Smiths Fork Colorado River Cutthroat Trout Enhancement project. The original NOI was published in the Federal Register on August 25, 2017. No significant issues were identified during the scoping period or any other opportunity to comment. Upon further evaluation, the responsible official has determined that the proposed action fits within an identified categorical exclusion (CE); there are no extraordinary circumstances; and the action would not have significant effects to the human environment. As a result, the Forest is withdrawing its intent to prepare an EIS and is now preparing a CE. All comments previously received regarding this project will be retained and considered in the development of the CE.

FOR FURTHER INFORMATION CONTACT: Questions concerning withdrawal of the NOI should be addressed to Paul Chase, Fisheries Biologist, at the following address: Logan Ranger District, Uinta-Wasatch-Cache National Forest, 1500 E Highway 89, Logan, UT 84321; via phone at 435-755-3692; or via email at paul.chase@usda.gov. Individuals and organizations that previously submitted comments on this project will remain on the project mailing list.

Individuals who use telecommunication devices for the deaf (TDD) may call the Federal Information Relay Service (FIRS) at 1-800-877-8339 between 8 a.m. and 8 p.m., Eastern Time, Monday through Friday.

Dated: November 18, 2019.
Richard A. Cooksey,
Acting Associate Deputy Chief, National Forest System.

[FR Doc. 2019-27439 Filed 12-19-19; 8:45 am]

BILLING CODE 3411-15-P